FEDERAL COMMUNICATIONS COMMISSION

[GN Docket No. 04-54; FCC 04-208]

Availability of Advanced Telecommunications Capability in the United States

AGENCY: Federal Communications Commission.

ACTION: Notice; report to congress.

SUMMARY: This Report concludes the Commission's fourth inquiry under section 706 of the Telecommunications Act of 1996. This Report finds that the overall goal of section 706 is being met, and that advanced telecommunications capability is being deployed on a reasonable and timely basis to all Americans.

FOR FURTHER INFORMATION CONTACT: Regina Brown, Wireline Competition Bureau, Telecommunications Access Policy Division, (202) 418-7400, TTY (202) 418-0484.

SUPPLEMENTARY INFORMATION: This is a summary of the Commission's Fourth Report to Congress in GN Docket No. 04-54 released on September 9, 2004. The full text of this document is available for public inspection during regular business hours in the FCC Reference Center, Room CY-A257, 445 12th Street, SW., Washington, DC 20554.

I. Introduction

1. Section 706 of the 1996 Telecommunications Act directs both the Commission and the states to encourage deployment of advanced telecommunications capability to all Americans on a reasonable and timely basis. In conjunction with this objective, Congress directed the Commission to conduct regular inquiries concerning whether advanced telecommunications capability is being deployed to all Americans on a reasonable and timely basis and, based on our findings, to take action to accelerate deployment, if necessary.

2. This Fourth Report to Congress (Fourth Report) concludes the Commission's fourth inquiry into the availability of advanced telecommunications capability in the United States. Like the previous three reports, this Fourth Report finds that the overall goal of section 706 is being met, and that advanced telecommunications capability is being deployed on a reasonable and timely basis to all Americans.

3. In the Fourth Report, we use the terms “advanced telecommunications capability” and “advanced services” to mean services and facilities with an upstream (customer-to-provider) and downstream (provider-to-customer) transmission speed of 200 kbps or greater. Such facilities and services are referred to as “broadband” throughout this report, and, as the report details, they include both wireline (telephone company and cable) as well as a growing list of wireless facilities, both licensed and unlicensed. This Fourth Report focuses on services and facilities that provide 200 kbps upstream and downstream transmission speeds. In contrast, we use the term “high-speed” to describe services with more than 200 kbps capability in at least one direction.

4. Our existing definitions are not static. The success of first-generation broadband—at speeds of approximately 200 kbps—has prompted demand for ever-faster broadband networks and connections, and today most broadband providers are offering service well in excess of the minimum 200 kbps speed. The Commission currently has under consideration rule changes that will enable us to gather more information about these “next-generation” broadband networks and services for purposes of future reports.

5. This Fourth Report documents the significant development of new Internet-based services, and new access technologies that has taken place since the issuance of our last report in 2002. The best-known of these new Internet-based services is the commercial deployment of voice communications over the Internet Protocol network. The remarkable growth in Internet access is highlighted by the expansion of Wi-Fi Internet access and the explosive growth of both commercial and noncommercial hotspots. Wi-Fi joins an increasingly lengthy list of other wired and wireless methods of accessing the Internet, a list that also includes WiMax, personal area networks, satellite technologies, fiber-to-the-home, and broadband over power lines, in addition to more familiar cable modem and digital subscriber line (DSL) services.

6. The Fourth Report also documents that subscribership to these networks and services has increased significantly since the issuance of our last report. Specifically, subscribership to high-speed lines almost tripled from 9.6 million in June 2001 to 28.2 million in December 2003, and subscribership to advanced services more than tripled in this same period, from 5.9 million lines to 20.3 million lines. In addition, the number of residential and small business subscribers to high-speed services has more than tripled during the same period, from 7.8 million lines in June 2001 to 26 million lines in December 2003.

7. Further, the Fourth Report documents the continuation of a positive trend that first emerged in our last report: namely, the increasing availability of advanced telecommunications capability to certain groups of consumers—those in rural areas, those with low incomes, and those with disabilities—who stand in particular need of advanced services. Consumers in these groups are of special concern to the Commission in that they are the doubly vulnerable: that is, although they are most in need of access to advanced telecommunications capability to overcome economic, educational, and other limitations, they are also the most likely to lack access precisely because of these limitations. The Fourth Report demonstrates that we are making substantial progress in closing the gaps in access that these groups traditionally have experienced.

8. Broadband-based Internet services have also become a critical communications tool for the deaf and hard-of-hearing, through the use of Internet Protocol Relay (IP Relay) and Video Relay Service (VRS), two forms of telecommunications relay services (TRS) that rely on the Internet. This report shows that there has been more than a 640 percent increase in IP Relay usage and more than a 2,000 percent increase in VRS in the past two years.

9. In addition, more than 95 percent of public libraries and 92 percent of public school classrooms have Internet access. Use of broadband connections in schools with high minority enrollment increased from 81 percent to 95 percent between 2000 and 2002. During this same period, schools with the highest poverty concentration using broadband connections to access the Internet increased from 75 percent to 95 percent.

Federal Communications Commission.
Marlene H. Dortch,
Secretary.

[FR Doc. 04-22369 Filed 10-4-04; 8:45 am]

BILLING CODE 6712-01-P